DEPARTMENT OF HOMELAND SECURITY

Coast Guard

33 CFR Part 117

[Docket No. USCG-2016-0196]

Drawbridge Operation Regulation; Red River, Alexandria, LA

AGENCY: Coast Guard, DHS.

ACTION: Notice of deviation from drawbridge regulations.

SUMMARY: The Coast Guard has issued a temporary deviation from the operating schedule that governs the US 165 (Jackson Street) Drawbridge across the Red River, mile 88.6, at Alexandria, Louisiana. The deviation is necessary to allow the bridge owner time to install new pinion bearings essential to the continued safe operation of the drawbridge. This deviation allows the bridge to remain in the closed-to-navigation position for approximately 6 days spanning a 2-week period.

DATES: This deviation is effective from May 31, 2016 through June 9, 2016.

ADDRESSES: The docket for this deviation, (USCG-2016-0196) is available at http://www.regulations.gov. Type the docket number in the “SEARCH” box and click “SEARCH.” Click on Open Docket Folder on the line associated with this deviation.

FOR FURTHER INFORMATION CONTACT: If you have questions on this temporary deviation, call or email Eric A. Washburn, Bridge Administrator, Western Rivers, Coast Guard; telephone 314-269-2378, email Eric.Washburn@uscg.mil.

SUPPLEMENTARY INFORMATION: The Louisiana Department of Transportation and Development requested a temporary deviation for the US 165 (Jackson Street) Drawbridge, across the Red River, mile 88.6, at Alexandria, Louisiana. This deviation allows the bridge to remain in the closed-to-navigation position from 8 a.m. on May 31, 2016 to 8 p.m. on June 2, 2016 and from 8 a.m. on June 7, 2016 to 8 p.m. on June 9, 2016. This deviation is necessary for the bridge owner to install new pinion bearings.

The US 165 (Jackson Street) Drawbridge currently operates in accordance with 33 CFR 117.491(b).

The US 165 (Jackson Street) Drawbridge provides a vertical clearance of 40.0 feet above normal pool in the closed-to-navigation position. Navigation on the waterway consists primarily of commercial tows and recreational watercraft and will not be significantly impacted. This temporary deviation has been coordinated with waterway users. No objections were received.

The bridge will not be able to open for emergencies and there are no alternate routes for vessels transiting this section of the Red River. The Coast Guard will also inform the users of the waterways through our Local and Broadcast Notices to Mariners of the change in operating schedule for the bridge so the vessel operators can arrange their transits to minimize any impact caused by the temporary deviation.

In accordance with 33 CFR 117.35(e), the drawbridge must return to its regular operating schedule immediately at the end of the effective period of this temporary deviation. This deviation from the operating regulations is authorized under 33 CFR 117.35.

Dated: April 20, 2016.
Eric A. Washburn,
Bridge Administrator, Western Rivers.

[FR Doc. 2016-09524 Filed 4-22-16; 8:45 am]

BILLING CODE 9110-04-P